DEPARTMENT OF TRANSPORTATION

Federal Railroad Administration

Environmental Impact Statement for Dallas—Houston High Speed Passenger Rail Corridor

AGENCY: Federal Railroad Administration (FRA), Department of Transportation (DOT).

ACTION: Notice of Intent to prepare an Environmental Impact Statement (EIS).

SUMMARY: FRA is issuing this notice to advise the public that FRA and the Texas Department of Transportation (TxDOT) intend to prepare an EIS pursuant to the National Environmental Policy Act of 1969 (NEPA) for the impacts of constructing and operating a dedicated high-speed rail (HSR) system (Proposed Action) proposed by the private company, Texas Central High-Speed Railway (TCR), for the Central Texas High-Speed Rail Corridor. The EIS will evaluate route alternatives for passenger rail for the corridor between Dallas and Houston, which currently has no passenger rail service. FRA will evaluate alternatives for construction and operation of the Proposed Action consisting of a sealed HSR corridor.

DATES: FRA invites the public, governmental agencies, and all other interested parties to comment on the scope of the EIS. All such comments should be provided in writing, within ninety (90) days of the publication of this notice, at the address listed below. Comments may also be provided orally or in writing at the scoping meetings. Scoping meeting dates, times and locations, in addition to related information about the EIS for the Central Texas High-Speed Rail Corridor can be found online at http://www.fra.dot.gov/Page/P0700.

ADDRESSES: Written comments on the scope of the EIS may be mailed or emailed within ninety (90) days of the publication of this notice to Michael Johnsen, Lead Environmental Protection Specialist, Office of Railroad Policy and Development, Federal Railroad Administration, 1200 New Jersey Avenue SE., MS-20, Washington, DC 20590, or michael.johnsen@dot.gov.

FOR FURTHER INFORMATION CONTACT: Michael Johnsen, Lead Environmental Protection Specialist at 1200 New Jersey Avenue SE., MS-20, Washington, DC 20590, telephone (202) 493-1310, email: Michael.johnsen@dot.gov, or Melissa Neeley, Director of Project Delivery Management, Environmental Affairs Division of the Texas Department of Transportation, 118 E. Riverside Drive, Austin, TX 78704. Telephone (512) 416-3014, email: Melissa.Neeley@txdot.gov.

SUPPLEMENTARY INFORMATION: The EIS will be prepared in accordance with the National Environmental Policy Act of 1969 (NEPA), the Council on Environmental Quality (CEQ) regulations implementing NEPA and the FRA's Procedures for Considering Environmental Impacts as set forth in 64 FR 28545, dated May 26, 1999 (Environmental Procedures). The EIS will also address Section 106 of the National Historic Preservation Act, Section 4(f) of the U.S. Department of Transportation Act of 1966 (49 U.S.C. 303), Executive Order 12898 and USDOT Order 5610.2(a) on Environmental Justice and other applicable Federal and state laws and regulations. The EIS will address environmental impact issues of concern and will include:

• Describing the purpose and need for the Proposed Action.

• Describing the environment likely to be affected by the Proposed Action.

• Identifying the reasonable alternatives that satisfy the purpose and need for the Proposed Action.

• Describing the no-build or no-action alternative to serve as a baseline for comparison.

• Describing the potential environmental impacts associated with the reasonable alternatives and mitigation to address significant impacts.

FRA, in cooperation with TxDOT will prepare the EIS for the Central Texas High-Speed Rail Corridor. The Proposed Action would connect Dallas and Houston with a dedicated HSR system and establish connectivity with other transportation services in Houston and Dallas. As part of the EIS, the impacts of various alternative HSR route alignments will be analyzed including shared corridors with other existing linear infrastructure corridors such as railroads, roads, and electric utility lines. The HSR system would be dedicated and would not share track or infrastructure with existing trains and rail lines. In addition, the EIS will analyze the potential impacts of stations, power facilities, and maintenance facilities to support HSR operations.

TCR is a Texas-based company formed in 2009 to bring HSR to Texas as a private-sector venture. Working closely with Central Japan Railway Company (JRC), TCR proposes the deployment of JRC's N700-I Bullet System based on the world's safest, most reliable, lowest emission, electric-powered, HSR systems, called the Tokaido Shinkansen System (Shinkansen). Developed and operated by JRC and the former Japan National Railways, the Shinkansen has operated safely for almost 50 years and carries over 400,000 daily passengers. The most current generation Shinkansen train, the N700, runs at speeds up to 186 miles per hour.

The EIS will describe an analysis of HSR alternatives in the study area and evaluate the environmental impacts of reasonable alternatives using a combination of Geographic Information System (GIS) data, field investigations and site visits/sampling where necessary. The primary environmental resources located within the study area that may be affected are: agricultural, residential, commercial, and industrial properties; streams and floodplains; wetlands and wildlife habitat; and open space. FRA and TxDOT will work with TCR to develop alternatives that avoid and minimize impacts to these resources, as well as cultural resources and protected lands. Minimization and mitigation measures will be identified within the EIS where appropriate.

In accordance with the NEPA, the FRA and TxDOT invite comments and suggestions regarding the scope of the EIS from all interested parties to ensure that all issues are addressed related to this proposal and any significant impacts are identified. Letters describing the EIS and soliciting comments will be sent to appropriate federal, state, and local agencies, Native American tribes, and private organizations who might have previously expressed or who are known to have an interest in the Proposed Action. Federal agencies with jurisdiction by law or special expertise with respect to potential environmental issues will be requested to act as a Cooperating Agency in accordance with 40 CFR 1501.16.

TxDOT will lead the outreach activities beginning with scoping meetings (dates to be determined). Public involvement initiatives including public meetings, project Web site, and outreach will continue throughout the EIS process. Opportunities for public participation will be announced through mailings, notices, advertisements, press releases and an EIS Web page, accessible at http://www.fra.dot.gov/Page/P0700. One or more public hearings will be held after the Draft EIS is released and made available for public and agency review. Public notice will be given for the time and place of public hearings.

Comments or questions concerning this Proposed Action and the scope of the EIS are invited from all interested parties and should be directed to the FRA at the address provided above.

Authority: National Environmental Policy Act of 1969 (NEPA) (42 U.S.C. 4321 et. seq.)

Issued in Washington, DC, on June 19, 2014.
Michael M. Johnsen,
Acting Division Chief, Environment and Systems Planning.

[FR Doc. 2014-14771 Filed 6-24-14; 8:45 am]

BILLING CODE 4910-06-P